DEPARTMENT OF THE INTERIOR

Bureau of Land Management

[MT-060-01-1020-PG]

Notice of Public Meeting; Central Montana Resource Advisory Council

AGENCY: Bureau of Land Management, Interior.

ACTION: Notice of public meeting.

SUMMARY: In accordance with the Federal Land Policy and Management Act and the Federal Advisory Committee Act of 1972, the U.S. Department of the Interior, Bureau of Land Management (BLM) Central Montana Resource Advisory Council (RAC) will meet as indicated below.

DATES: The meetings will be held September 15 & 16, 2009.

The meetings will be in the Best Western Great Northern Inn (1345 1st Street) in Havre, Montana.

The September 15 meeting will begin at 10 a.m. with a one-hour public comment period and will adjourn at 5 p.m.

The September 16 meeting will begin at 8 a.m. with a 30-minute public comment period and will adjourn at 12:15 p.m.

SUPPLEMENTARY INFORMATION: This 15-member council advises the Secretary of the Interior on a variety of management issues associated with public land management in Montana. During these meetings the council will participate in/discuss/act upon:

The bison initiative;

A review of the 2009 RAC work plan;

An oil and gas stakeholder presentation;

An update of the HiLine Resource Management Plan;

Field managers' updates;

A discussion of future RAC projects; and

Administrative details (next meeting agenda, location, etc.)

All RAC meetings are open to the public. The public may present written comments to the RAC. Each formal RAC meeting will also have time allocated for hearing public comments. Depending on the number of persons wishing to comment and time available, the time for individual oral comments may be limited.

FOR FURTHER INFORMATION CONTACT: Gary L. “Stan” Benes, Lewistown Field Manager, Lewistown Field Office, P.O. Box 1160, Lewistown, Montana 59457, 406/538-1900.

Dated: August 14, 2009.
Gary L. “Stan” Benes,
Lewistown Field Manager.

[FR Doc. E9-20002 Filed 8-19-09; 8:45 am]

BILLING CODE 4310-$$-P